DEPARTMENT OF ENERGY

Federal Energy Regulatory Commission

Notice of FERC Staff Attendance at the Entergy ICT Transmission Planning Summit and Entegry Regional State Committee Meeting

The Federal Energy Regulatory Commission hereby gives notice that members of its staff may attend the meetings noted below. Their attendance is part of the Commission's ongoing outreach efforts.

Entergy ICT Transmission Planning Summit

August 23, 2011 (8 a.m.-5 p.m.)

Entergy Regional State Committee Meeting

August 24, 2011 (1-5 p.m.)

August 25, 2011 (9 a.m.-12 p.m.)

These meetings will be held at the Sheraton New Orleans, 500 Canal Street, New Orleans, LA 70130. The hotel phone number is 888-627-7033.

The discussions may address matters at issue in the following proceedings:

Docket No. |
OA07-32 | Entergy Services, Inc.
EL00-66 | Louisiana Public Service Commission v. Entergy Services, Inc.
EL01-88 | Louisiana Public Service Commission v. Entergy Services, Inc.
EL07-52 | Louisiana Public Service Commission v. Entergy Services, Inc.
EL08-51 | Louisiana Public Service Commission v. Entergy Services, Inc.
EL08-60 | Ameren Services Co. v. Entergy Services, Inc.
EL09-43 | Arkansas Public Service Commission v. Entergy Services, Inc.
EL09-50 | Louisiana Public Service Commission v. Entergy Services, Inc.
EL09-61 | Louisiana Public Service Commission v. Entergy Services, Inc.
EL10-55 | Louisiana Public Service Commission v. Entergy Services, Inc.
EL10-65 | Louisiana Public Service Commission v. Entergy Services, Inc.
EL11-34 | Midwest Independent System Transmission Operator, Inc.
ER05-1065 | Entergy Services, Inc.
ER07-682 | Entergy Services, Inc.
ER07-956 | Entergy Services, Inc.
ER08-1056 | Entergy Services, Inc.
ER09-833 | Entergy Services, Inc.
ER09-1224 | Entergy Services, Inc.
ER10-794 | Entergy Services, Inc.
ER10-1350 | Entergy Services, Inc.
ER10-1676 | Entergy Services, Inc.
ER10-2001 | Entergy Arkansas, Inc.
ER10-2161 | Entergy Texas, Inc.
ER10-2748 | Entergy Services, Inc.
ER10-3357 | Entergy Arkansas, Inc.
ER11-2131 | Entergy Arkansas, Inc.
ER11-2132 | Entergy Gulf States, Louisiana, LLC
ER11-2133 | Entergy Gulf States, Louisiana, LLC
ER11-2134 | Entergy Mississippi, Inc.
ER11-2135 | Entergy New Orleans, Inc.
ER11-2136 | Entergy Texas, Inc.
ER11-2161 | Entergy Texas, Inc.
ER11-3156 | Entergy Arkansas, Inc.
ER11-3157 | Entergy Arkansas, Inc.
ER11-3274 | Entergy Arkansas, Inc.
ER11-3728 | Midwest Independent Transmission System Operator, Inc.
ER11-3657 | Entergy Arkansas, Inc.
ER11-3658 | Entergy Arkansas, Inc.

These meetings are open to the public.

For more information, contact Patrick Clarey, Office of Energy Market Regulation, Federal Energy Regulatory Commission at (317) 249-5937 or patrick.clarey@ferc.gov.

Dated: August 5, 2011.
Kimberly D. Bose,
Secretary.

[FR Doc. 2011-20425 Filed 8-10-11; 8:45 am]

BILLING CODE 6717-01-P